DEPARTMENT OF ENERGY

[FE Docket No. 96-07-NG]

Office of Fossil Energy; BC Gas Utility Ltd.; Order Amending Authorization To Import and Export Natural Gas From and to Canada

AGENCY: Office of Fossil Energy, DOE.

ACTION: Notice of order.

SUMMARY: The Office of Fossil Energy of the Department of Energy gives notice that it has issued an order to BC Gas Utility Ltd. amending the natural gas import and export authorization granted by DOE/FE Order No.1149 (1 FE ¶ 71,240). Order 1149-A extends the term from May 1, 2000, through April 30, 2002, and increases the annual limit from 5 billion cubic feet (Bcf) to 6 Bcf. Under the import/export arrangement, Canadian natural gas will be imported through the existing pipeline facilities at Sumas, Washington, and Eastport, Idaho, for storage at the Jackson Prairie Storage Field in Washington State, and then exported back to Canada.

This order is available for inspection and copying in the Office of Natural Gas & Petroleum Import & Export Activities docket room, 3E-033, Forrestal Building, 1000 Independence Avenue, SW, Washington, DC, 20585, (202) 586-9478. The docket room is open between the hours of 8:00 a.m. and 4:30 p.m., Monday through Friday, except Federal holidays.

Issued in Washington, DC, on April 21, 2000.
John W. Glynn,
Manager, Natural Gas Regulation, Office of Natural Gas & Petroleum Import and Export Activities, Office of Fossil Energy.

[FR Doc. 00-10894 Filed 5-1-00; 8:45 am]

BILLING CODE 6450-01-P